DEPARTMENT OF TRANSPORTATION

Federal Railroad Administration

[Docket No. FRA-2014-0011-N-3]

Information Collection Requirements

AGENCY: Federal Railroad Administration (FRA), DOT.

ACTION: Notice and request for comments.

SUMMARY: In compliance with the Paperwork Reduction Act of 1995, this notice announces that the Information Collection Requirements (ICRs) abstracted below have been forwarded to the Office of Management and Budget (OMB) for review and comment. The ICRs describe the nature of the information collections and their expected burdens. The Federal Register notice with a 60-day comment period soliciting comments on the following collections of information was published on December 23, 2013 (78 FR 246).

DATES: Comments must be submitted on or before March 26, 2014.

FOR FURTHER INFORMATION CONTACT: Ms. Janet Wylie, Office of Information Technology, RAD-20, Federal Railroad Administration, 1200 New Jersey Ave. SE., Mail Stop 35, Washington, DC 20590 (telephone: (202) 493-6353), or Ms. Kimberly Toone, Office of Information Technology, RAD-20, Federal Railroad Administration, 1200 New Jersey Ave. SE., Mail Stop 35, Washington, DC 20590 (telephone: (202) 493-6132). (These telephone numbers are not toll-free.).

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On December 23, 2013, FRA published a 60-day notice in the Federal Register soliciting comments on ICR that the agency was seeking OMB approval. 78 FR 246. FRA received no comments after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the ICRs and the expected burden. The revised requirements are being submitted for clearance by OMB as required by the PRA.

Title: Railroad Rehabilitation and Improvement Financing Program

OMB Control Number: 2130-0580

Type of Request: Revision of a currently approved collection.

Affected Public: State and local governments, government sponsored authorities and corporations, railroads, and joint ventures that include at least one railroad.

Abstract: The Consolidated Security, Disaster Assistance, and Continuing Appropriations Act, 2009 (Pub. L. 110-329; September 30, 2008), established the Railroad Rehabilitation and Repair Program, making Federal funds available directly to States. This Program allowed grant to fund up to 80 percent of the cost of rehabilitation and repairs to Class II and Class III railroad infrastructure damaged by hurricanes, floods, and other natural disasters in areas that are located in counties that have been identified in a Disaster Declaration for Public Assistance by the President under title IV of the Robert T. Stafford Disaster Relief and Emergency Assistance Act of 1974. Funding was made available on a reimbursement basis for costs incurred after a major disaster declaration that was made between January 1, 2008, and the date of the publication of the notice of funding availability in the counties covered by such a declaration. Rehabilitation and repairs include rights-of-way, bridges, signals, and other infrastructure which is part of the general railroad system of transportation and primarily used by railroads to move freight traffic.

FRA recently revised this ICR to allow for the submission of additional grants under this program based on the Notice of Funding Availability published by FRA on October 13, 2013, and the emergency clearance request approved by OMB on November 5, 2013. Any grants submitted as part of this previous information collection request were due by December 9, 2013. Therefore, this revision no longer includes any burden hours for the application process, as no new applications are being accepted at this time.

Due to the nature of these disaster assistance funds, current economic conditions, and the various States need for immediate assistance to vital freight transportation pathways and the important role these sectors of transportation play in the overall national economy, FRA is requesting OMB to extend this ICR in order to manage the current grants obligated under this program until the remaining grants have properly closed-out and are completed.

Form Number(s): SF-425, SF271, SF-270.

Annual Estimated Burden Hours: 504 hours

Addressee: Send comments regarding these information collections to the Office of Information and Regulatory Affairs, Office of Management and Budget, 725 Seventeenth Street NW., Washington, DC 20503, Attention: FRA Desk Officer. Alternatively, comments may be sent via email to the Office of Information and Regulatory Affairs (OIRA), Office of Management and Budget, at the following address: oira_submissions@omb.eop.gov.

Comments are invited on the following: Whether the proposed collections of information are necessary for the proper performance of the functions of the Department, including whether the information will have practical utility; the accuracy of the Department's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC on February 19, 2014.
Rebecca Pennington,
Chief Financial Officer.

[FR Doc. 2014-03851 Filed 2-21-14; 8:45 am]

BILLING CODE 4910-06-P